DEPARTMENT OF THE INTERIOR

U.S. Fish and Wildlife Service

Klamath River Basin Fisheries Task Force; Notice of Meeting

SUMMARY: Pursuant to section 10(a)(2) of the Federal Advisory Committee Act (5 U.S.C. App. I), this notice announces a meeting of the Klamath River Basin Fisheries Task Force, established under the authority of the Klamath River Basin Fishery Resources Restoration Act (16 U.S.C. 460ss et seq.). The meeting is open to the public.

DATES: The Klamath River Basin Fisheries Task Force (Task Force) will meet from 8:00 a.m. to 4:30 p.m. on Thursday, February 10, 2000 and from 8:00 a.m. to 1:00 p.m. on Friday, February 11, 2000.

PLACE: The meeting will be held at the Brookings Inn, 1143 Chetco Avenue, Brookings, Oregon.

FOR FURTHER INFORMATION CONTACT: Dr. Ronald A. Iverson, Project Leader, U.S. Fish and Wildlife Service, P.O. Box 1006 (1215 South Main), Yreka, California 96097-1006, telephone (530) 842-5763.

SUPPLEMENTARY INFORMATION: For background information on the Task Force, please refer to the notice of their initial meeting that appeared in the Federal Register on July 8, 1987 (52 FR 25639).

Elizabeth H. Stevens,
Acting Manager, California Nevada Operations.

[FR Doc. 00-1592 Filed 1-21-00; 8:45 am]

BILLING CODE 4310-55-U